DEPARTMENT OF LABOR

Employment and Training Administration

Proposed Information Collection Request Submitted for Public Comment and Recommendations; Reporting and Performance Standards System for the Migrant and Seasonal Farmworker Program Under Title I, Section 167 of the Workforce Investment Act (WIA) of 1998

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the extension of the data collection for the Migrant and Seasonal Farmworker Program, also known as the National Farmworker Jobs Program (NFJP). A copy of the proposed information collection request (ICR) can be obtained by contacting the office listed below in the addressee section of this notice or at this Web site: http://www.doleta.gov/Performance/guidance/OMBControlNumber.cfm.

DATES: Written comments must be submitted to the office listed in the addressee section below on or before November 14, 2006.

ADDRESSES: Gay M. Gilbert, Administrator, Office of Workforce Investment, Employment and Training Administration, U.S. Department of Labor, Room S-4231, 200 Constitution Ave., NW., Washington, DC 20210; telephone: (202) 693-3980 (this is not a toll-free number); fax: (202) 693-3981, e-mail ETAperforms@dol.gov.

SUPPLEMENTARY INFORMATION:

I. Background

Each grantee administering funds under the NFJP program is required to submit a program planning report (ETA Form 9094), a budget information summary report (ETA Form 9093), and a quarterly program status report (ETA Form 9095). This latter form contains information related to levels of participation and service, related assistance activities, and actual placements in employment. In addition, each grantee submits a quarterly file of individual records on all participants who exit the program, called the Workforce Investment Act Standardized Participant Record (WIASPR).

In 2001, under the President's Management Agenda, OMB and other Federal agencies developed a set of common measures to be applied to certain federally funded employment and training programs with similar strategic goals. As part of this initiative, ETA issued Training and Employment Guidance Letter (TEGL) 28-04, Common Measures Policy. The value of implementing common measures is the ability to describe in a similar manner the core purposes of the workforce system—how many people found jobs; did they keep those jobs; and what were their earnings. Implementing a set of common measures can facilitate the integration of service delivery, reduce barriers to cooperation among programs, and enhance the ability to assess the effectiveness and impact of the workforce investment system, including the performance of the system in serving individuals facing significant barriers to employment.

The common measures are an integral part of ETA's performance accountability system, and ETA will continue to collect from grantees the data on program activities, participants, and outcomes that are necessary for program management and to convey full and accurate information on the performance of workforce programs to policymakers and stakeholders.

The extension to the NFJP reporting system identifies a minimum level of information collection that is necessary to comply with Equal Opportunity requirements, holds grantees appropriately accountable for the Federal funds they receive, assesses progress against a set of common performance measures, and allows the Department to fulfill its oversight and management responsibilities.

The three adult common measures that apply to NFJP grantees are Entered Employment; Employment Retention; and Average Earnings. Grantees currently collect and submit the data necessary to report on these performance measures.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension.

Agency: Employment and Training Administration.

Title: Reporting and Performance Standards System for the National Farmworker Jobs Program (NFJP) under Title I, Section 167, of the Workforce Investment Act (WIA).

OMB Number: 1205-0425.

Recordkeeping: Quarterly.

Affected Public: State, local or tribal governments; not-for-profit institutions.

Total Respondents: 53 States and grantees.

Estimated Total Burden Hours: 70,562.

Total Burden Cost (capital/startup): $0.

Total Burden Cost (operating/maintaining): $0.

Comments submitted in response to this comment request will be summarized and/or included in the request for Office of Management and Budget approval of the information collection request; they will also become a matter of public record.

Signed at Washington, DC this 8th day of September, 2006.
Gay M. Gilbert,
Administrator, Office of Workforce Investment.

[FR Doc. E6-15347 Filed 9-14-06; 8:45 am]

BILLING CODE 4510-30-P